DEPARTMENT OF HEALTH AND HUMAN SERVICES

Office of the Secretary

Statement of Organization, Functions, and Delegations of Authority

Part A, Office of the Secretary, Statement of Organization, Functions, and Delegations of Authority for the Department of Health and Human Services is being amended at Chapter AA, Immediate Office of the Secretary, as last amended at 76 FR 4703, dated January 26, 2011, and at Chapter ABC, Office for Intergovernmental Affairs, as last amended at 61 FR 24311-12, dated May 14, 1996, and 62 FR 5009-10, dated February 3, 1997 2010, and most recently amended at 66 FR 40288, dated August 2, 2001, as follows:

I. Under Chapter AA, Section AA.10 Organization, replace “Office for Intergovernmental Affairs (ABC)” with “Office of Intergovernmental and External Affairs (ABC)”.

II. Under Chapter ABC, retitle all references to the “Office for Intergovernmental Affairs” as the “Office of Intergovernmental and External Affairs,” all references to the “Director for Intergovernmental Affairs” as the “Director of Intergovernmental and External Affairs,” and all references to “IGA” as “IEA”.

III. Under Chapter ABC, Section ABC.00 Mission, 1st sentence, replace “headquarters, regional, State, tribal, local and community levels” with “headquarters, regional, State, tribal, territorial, local and community levels”.

IV. Under Chapter ABC, Section ABC.10 Organization, insert the following at the end of the first sentence: “The Director of Intergovernmental and External Affairs provides leadership and oversight to the following components:

• Office of the Regional Directors (AD).

• Office of External Affairs (ABC1).

V. Under Chapter ABC, Section ABC.20 Functions, 2nd paragraph, replace “State, tribal, and local impact” with “State, tribal, territorial and local impact” and “regional, State, and local implications” with “regional, State, territorial and local implications”.

VI. Under Chapter ABC, Section ABC.20 Functions, 3rd paragraph, replace “delivery of services to States and communities” with “delivery of services to States, territories and communities”.

VII. Under Chapter ABC, Section ABC.20 Functions, 4th paragraph, replace “Represents the Secretary and Deputy Secretary with officials of other Federal agencies, officials of State, tribal and local governments, and nongovernmental organizations” with “Represents the Secretary and Deputy Secretary with officials of other Federal agencies, officials of State, tribal, territorial and local governments, and nongovernmental organizations”.

VIII. Under Chapter ABC, Section ABC.20 Functions, insert the following after the last paragraph:

1. Office of the Regional Directors (AD). See Chapter AD.

2. Office of External Affairs (ABC1). The Office of External Affairs (OEA) plays an important role in the implementation of the Affordable Care Act (ACA) by developing, maintaining, and enhancing relationships with a wide range of national organizations and non-governmental stakeholders to promote an understanding of HHS policies and activities related to the ACA. OEA will keep external stakeholders abreast of key developments during implementation; solicit their feedback on policies and outreach; and tap into their collective ability to disseminate information to their colleagues and the public. OEA also will serve as an internal resource within the Administration by providing guidance and information on external stakeholder needs, environmental trends, and issues.

Dated: June 20, 2011.
Kathleen Sebelius,
Secretary.

[FR Doc. 2011-17918 Filed 7-18-11; 8:45 am]

BILLING CODE 4150-04-P